DEPARTMENT OF COMMERCE

National Oceanic and Atmospheric Administration

50 CFR Part 600

[Docket No. 030128024-5027-02; I.D. 121002A]

RIN 0648-AQ63

Magnuson-Stevens Act Provisions; National Standard Guidelines

AGENCY: National Marine Fisheries Service (NMFS), National Oceanic and Atmospheric Administration (NOAA), Commerce.

ACTION: Proposed rule; extension of comment period.

SUMMARY: NMFS extends the public comment period on the proposed rule containing revisions to the National Standard 1 (NS1) guidelines. NMFS has received various requests to extend the comment period for the proposed rule beyond its current 60-day comment period. The extension of the comment period for another 60 days is intended to ensure that NMFS provides adequate time for various stakeholders and members of the public to comment on the proposed revisions to the NS1 guidelines. The comment period is extended from August 22, 2005, to October 21, 2005.

DATES: Comments must be received on or before October 21, 2005.

ADDRESSES: You may submit comments by any of the following methods:

• E-mail: nationalstandard1@noaa.gov. “Comments on proposed rule for National Standard 1.”

• Mail: Mark R. Millikin, National Marine Fisheries Service, NOAA, Office of Sustainable Fisheries, 1315 East-West Highway, Room 13357, Silver Spring, MD 20910 (Mark the outside of the envelope “Comments on National Standard 1 proposed rule”).

• Federal e-Rulemaking Portal: http://www.regulations.gov. Include in the subject line the following:

Copies of the Environmental Assessment/Regulatory Impact Review (EA/RIR) for this proposed rule are available from Mark R. Millikin at the address listed above. The EA/RIR document is also available on the internet at: http://www.nmfs.noaa.gov/sfa/domes_fish/index.htm.

FOR FURTHER INFORMATION CONTACT: Mark R. Millikin, Senior Fishery Management Specialist, 301-713-2341, e-mail mark.millikin@noaa.gov.

SUPPLEMENTARY INFORMATION: A proposed rule that covers NMFS' proposed revisions to the NS1 guidelines was published on June 22, 2005 (70 FR 36240), with a comment period ending date of August 22, 2005. After receiving several requests to extend the comment period, NMFS has decided to extend it for another 60 days through October 21, 2005.

This action extends the comment period for a proposed rule that the Office of Management and Budget determined to be significant under Executive Order 12866.

Authority: 16 U.S.C. 1801 et seq.

Dated: August 5, 2005.
James W. Balsiger,
Acting Deputy Assistant Administrator for Regulatory Programs, National Marine Fisheries Service.

[FR Doc. 05-16119 Filed 8-12-05; 8:45 am]

BILLING CODE 3510-22-S